DEPARTMENT OF COMMERCE

National Oceanic and Atmospheric Administration

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC) Ecosystem and Ocean Planning Committee will hold a public meeting.

DATES: The meeting will be held on Friday, March 18, 2016, from 9 a.m. to 4 p.m. For agenda details, see SUPPLEMENTARY INFORMATION.

ADDRESSES: The meeting will be held at the Double Tree by Hilton Baltimore -BWI Airport, 890 Elkridge Landing Road, Linthicum, Maryland, 21090; telephone: (410) 859-8400.

Council address: Mid-Atlantic Fishery Management Council, 800 N. State Street, Suite 201, Dover, DE 19901; telephone: (302) 674-2331; Web site: www.mafmc.org.

FOR FURTHER INFORMATION CONTACT: Christopher M. Moore, Ph.D., Executive Director, Mid-Atlantic Fishery Management Council, telephone: (302) 526-5255.

SUPPLEMENTARY INFORMATION: The MAFMC's Ecosystem and Ocean Planning Committee will meet to discuss the Council's Unmanaged Forage Omnibus Amendment. This amendment will prohibit the development of new, or expansion of existing, directed fisheries on unmanaged forage species in Mid-Atlantic Federal waters until adequate scientific information is available to promote ecosystem sustainability. The Committee will develop recommendations for the full Council to consider at their April 2016 meeting. The Committee will consider advice from the Unmanaged Forage Fishery Management Action Team and recommendations from the Ecosystem and Ocean Planning Advisory Panel before developing recommendations related to management alternatives and other aspects of the amendment. A detailed agenda and any relevant background documents will be posted to the Council's Web site prior to the meeting: www.mamfc.org.

Special Accommodations

The meeting is physically accessible to people with disabilities. Requests for sign language interpretation or other auxiliary aid should be directed to M. Jan Saunders, (302) 526-5251, at least 5 days prior to the meeting date.

Dated: February 24, 2016.
Jeffrey N. Lonergan,
Acting Deputy Director, Office of Sustainable Fisheries, National Marine Fisheries Service.

[FR Doc. 2016-04327 Filed 2-26-16; 8:45 am]

BILLING CODE 3510-22-P